DEPARTMENT OF THE INTERIOR

Office of the Secretary

[16XD0120AF.DT12000000.DST000000.82CO00]

Privacy Act of 1974, as Amended; Notice To Delete an Existing System of Records

AGENCY: Office of the Special Trustee for American Indians, Interior.

ACTION: Notice of deletion of an existing system of records.

SUMMARY: The Department of the Interior is issuing public notice of its intent to delete the Office of the Special Trustee for American Indians Privacy Act system of records, “Accounting Reconciliation Tool (ART)—Interior, OS-11,” from its existing inventory.

DATES: This deletion will be effective on January 14, 2016.

FOR FURTHER INFORMATION CONTACT: Veronica Herkshan, Privacy Act Officer, Office of the Special Trustee for American Indians (OST), 4400 Masthead Street NE., Albuquerque, New Mexico 87109; by telephone at (505) 816-1645; or by email at veronica_herkshan@ost.doi.gov.

SUPPLEMENTARY INFORMATION: Pursuant to the provisions of the Privacy Act of 1974, 5 U.S.C. 552a, as amended, the Department of the Interior (DOI) Office of the Special Trustee for American Indians (OST) is deleting, “Accounting Reconciliation Tool (ART)—Interior, OS-11,” from its system of records inventory. A Federal Register notice was last published for this system of records on July 31, 2008 (73 FR 44759). On January 8, 2015, OST published an amended Privacy Act system notice for “Individual Indian Money (IIM) Trust Funds—Interior, OS-02” (80 FR 1043), which combined the two Privacy Act system of records, “Individual Indian Money (IIM) Trust Funds—Interior, OS-02” and “Accounting Reconciliation Tool (ART)—Interior, OS-11”, into one system of records as the two systems are managed by the same system manager within OST, and have the same authorities and purpose to manage the collection, distribution, and disbursement of Indian Trust land income. DOI did not receive any comments on the publication of the amended “Individual Indian Money (IIM) Trust Funds—Interior, OS-02” system of records notice.

Deleting the “Accounting Reconciliation Tool (ART)—Interior, OS-11” system of records notice will have no adverse impacts on individuals as the records are covered under the OST “Individual Indian Money (IIM) Trust Funds—Interior, OS-02” system of records notice. Individuals may continue to seek access or correction to their records under the “Individual Indian Money (IIM) Trust Funds—Interior, OS-02” system of records notice. This deletion will also promote the overall streamlining and management of Department of the Interior Privacy Act systems of records.

Dated: January 8, 2016.
Teri Barnett,
Departmental Privacy Officer.

[FR Doc. 2016-00572 Filed 1-13-16; 8:45 am]

BILLING CODE 4310-2W-P